DEPARTMENT OF JUSTICE

Notice of Lodging of the Consent Decree Under the Clean Water Act

Notice is hereby given that on July 19, 2011, a proposed Consent Decree in United States v. Jersey City Municipal Utilities Authority (“JCMUA”), Civil Action No. 2:11-04120 (SDW-MCA), was lodged with the United States Court for the District of New Jersey.

The proposed Consent Decree resolves JCMUA's Clean Water Act (CWA) violations stemming from its failure to properly operate and maintain its Combined Sewer Collection System, which resulted in dry weather overflows and numerous basement backups in the homes of residents of Jersey City. Under the terms of the Consent Decree, JCMUA will pay a $375,000 penalty, undertake a Supplemental Environment Project valued at $550,000, and implement injunctive relief valued at approximately $52 million. As part of the injunctive relief, JCMUA will undertake a Capacity and Condition Assessment Study, a telemetry monitoring program, implement a residential complaint tracking system, implement approved operation and maintenance schedules of its sewers, conduct a pump station evaluation, as well as implement numerous construction projects aimed at repairing or replacing deteriorating sewers within its Combined Sewer System.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to the matter as United States v. JCMUA, D.J. Ref. 90-5-1-1-09499.

The Consent Decree may be examined at the Office of the United States Attorney, 970 Broad Street, Suite 700, Newark, New Jersey, and at U.S. EPA Region II, 290 Broadway, New York, New York. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting from the Consent Decree Library a copy of the consent decree for United States v. JCMUA, Civil Action No. 2:11-04120, please enclose a check in the amount of $15.75 (25 cents per page reproduction cost) payable to the U.S. Treasury.

Ronald G. Gluck,
Assistant Section Chief, Environmental Enforcement Section, Environment and Natural Resource Division.

[FR Doc. 2011-19178 Filed 7-28-11; 8:45 am]

BILLING CODE 4410-15-P